DEPARTMENT OF DEFENSE

Office of the Secretary

[Docket ID: DoD-2010-OS-0061]

Privacy Act of 1974; Systems of Records

AGENCY: National Security Agency/Central Security Service, DoD.

ACTION: Notice to amend a system of records.

SUMMARY: The National Security Agency (NSA) is proposing to amend a systems of records notices in its inventory of record systems subject to the Privacy Act of 1974, (5 U.S.C. 552a), as amended.

DATES: This proposed action will be effective without further notice on June 7, 2010 unless comments are received which result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Anne Hill at (301) 688-6527.

SUPPLEMENTARY INFORMATION: The National Security Agency's systems of notices subject to the Privacy Act of 1974 (5 U.S.C. 552a), as amended, have been published in the Federal Register and are available from the National Security Agency/Central Security Service, Freedom of Information Act and Privacy Act Office, 9800 Savage Road, Suite 6248, Ft. George G. Meade, MD 20755-6248.

The specific changes to the records system being amended are set forth below followed by the notice, as amended, published in its entirety. The proposed amendments are not within the purview of subsection (r) of the Privacy Act of 1974, (5 U.S.C. 552a), as amended, which requires the submission of a new or altered system report.

Dated: May 4, 2010.
Mitchell S. Bryman,
Alternate OSD Federal Register Liaison Officer, Department of Defense.

GNSA 21

System name:

NSA/CSS Morale, Welfare, and Recreation (MWR) and Non-appropriated Fund Instrumentality (NAFI) Files (July 6, 2005; 70 FR 38894).

Changes:

* * * * *

Authority for maintenance of the system:

Delete entry and replace with “National Security Agency Act of 1959, Public Law 86-36 (50 U.S.C. 402 note), as amended; DoD Instruction 1015.08, DoD Civilian employee Morale, Welfare, and Recreation (MWR) Activities and Supporting Nonappropriated Fund Instrumentalities; DoD Instruction 1015.10, Military Morale, Welfare, and Recreation (MWR) Programs; NSA/CSS Policy 4-2, NSA/CSS Civilian Morale, Welfare, and Recreation Program; and E.O. 9397, as amended (SSN).”

* * * * *

System manager(s) and address:

Delete entry and replace with “Associate Director for Installations and Logistics, National Security Agency/Central Security Service, 9800 Savage Road, Ft. George G. Meade, MD 20755-6000.”

Notification procedure:

Delete entry and replace with “Individuals seeking to determine whether information about themselves is contained in this system should address written inquiries to the National Security Agency/Central Security Service, Freedom of Information Act/Privacy Act Office, 9800 Savage Road, Ft. George G. Meade, MD 20755-6000.

Written inquiries should contain the individual's full name, Social Security Number (SSN) and mailing address.”

Record access procedures:

Delete entry and replace with “Individuals seeking access to information about themselves contained in this system should address written inquiries to the National Security Agency/Central Security Service, Freedom of Information Act/Privacy Act Office, 9800 Savage Road, Ft. George G. Meade, MD 20755-6000.

Written inquiries should contain the individual's full name, Social Security Number (SSN) and mailing address.”

Contesting record procedures:

Delete entry and replace with “The NSA/CSS rules for contesting contents and appealing initial determinations are published at 32 CFR part 322 or may be obtained from the system manager.”

* * * * *

GNSA 21

System name:

NSA/CSS Morale, Welfare, and Recreation (MWR) and Non-appropriated Fund Instrumentality (NAFI) Files.

System location:

National Security Agency/Central Security Service, Ft. George G. Meade, MD 20755-6000.

Categories of individuals covered by the system:

Civilian DoD employees, non-appropriated fund instrumentality employees, employees of other Federal agencies or military departments, contractor employees, and dependents of these individuals, and personnel authorized to use DoD-sponsored MWR services and participate in NAFI sponsored activities.

Categories of records in the system:

Records include information on members, participants, patrons, and other authorized users to include name, address, phone number, Social Security Number (SSN), organization, correspondence; membership applications; special activity applications; accounts receivable records; loan information; dishonored check listings; and investigatory reports involving abuse of facilities.

Authority for maintenance of the system:

National Security Agency Act of 1959, Public Law 86-36 (50 U.S.C. 402 note), as amended; DoD Instruction 1015.08, DoD Civilian employee Morale, Welfare, and Recreation (MWR) Activities and Supporting Nonappropriated Fund Instrumentalities; DoD Instruction 1015.10, Military Morale, Welfare, and Recreation (MWR) Programs; NSA/CSS Policy 4-2, NSA/CSS Civilian Morale, Welfare, and Recreation Program; and E.O. 9397, as amended (SSN).

Purpose(s):

To develop MWR programs and NAFI to promote and provide a centrally managed, well-rounded MWR program to help ensure the mental and physical well being of its civilian and military personnel and to provide programs and resources through financial support from both appropriated and non-appropriated funds. Information will be used to maintain records necessary for the administration of MWR programs and NAFI.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of the NSA/CSS' compilation of systems of records notices apply to this system.

Policies and practices for storing, retrieving, accessing, retaining, and disposing of records in the system:

Storage:

Paper records and on electronic storage media.

Retrievability:

By name, organization (or affiliation), Social Security Number (SSN), home address and phone number, and subject matter.

Safeguards:

The NSA/CSS Fort Meade facility is secured by a series of guarded pedestrian gates and checkpoints. Access to the facility is limited to security cleared personnel and escorted visitors only. Within the facility itself, access to paper and computer printouts is controlled by limited-access facilities and lockable containers. Access to electronic mediums is controlled by computer password protection.

Access to information is limited to those individuals specifically authorized and granted access by NSA/CSS regulations. For records on the computer system, access is controlled by passwords and limited to authorized personnel only.

Retention and disposal:

Records are maintained for 6 years and 3 months, and then destroyed by pulping, burning, shredding, or erasure of magnetic media.

System manager(s) and address:

Associate Director for Installations and Logistics, National Security Agency/Central Security Service, 9800 Savage Road, Ft. George G. Meade, MD 20755-6000.

Notification procedure:

Individuals seeking to determine whether information about themselves is contained in this system should address written inquiries to the National Security Agency/Central Security Service, Freedom of Information Act/Privacy Act Office, 9800 Savage Road, Ft. George G. Meade, MD 20755-6000.

Written inquiries should contain the individual's full name, Social Security Number (SSN) and mailing address.

Record access procedures:

Individuals seeking access to information about themselves contained in this system should address written inquiries to the National Security Agency/Central Security Service, Freedom of Information Act/Privacy Act Office, 9800 Savage Road, Ft. George G. Meade, MD 20755-6000.

Written inquiries should contain the individual's full name, Social Security Number (SSN) and mailing address.

Contesting record procedures:

The NSA/CSS rules for contesting contents and appealing initial determinations are published at 32 CFR part 322 or may be obtained from the system manager.

Record source categories:

Individual patrons/users of a service, and activity record.

Exemptions claimed for the system:

None.

[FR Doc. 2010-10843 Filed 5-6-10; 8:45 am]

BILLING CODE 5001-06-P